DEPARTMENT OF HOMELAND SECURITY

Federal Emergency Management Agency

44 CFR Part 64

[Docket ID FEMA-2011-0002; Internal Agency Docket No. FEMA-8181]

Suspension of Community Eligibility

AGENCY: Federal Emergency Management Agency, DHS.

ACTION: Final rule.

SUMMARY: This rule identifies communities, where the sale of flood insurance has been authorized under the National Flood Insurance Program (NFIP), that are scheduled for suspension on the effective dates listed within this rule because of noncompliance with the floodplain management requirements of the program. If the Federal Emergency Management Agency (FEMA) receives documentation that the community has adopted the required floodplain management measures prior to the effective suspension date given in this rule, the suspension will not occur and a notice of this will be provided by publication in the Federal Register on a subsequent date.

DATES: Effective Dates: The effective date of each community's scheduled suspension is the third date (“Susp.”) listed in the third column of the following tables.

FOR FURTHER INFORMATION CONTACT: If you want to determine whether a particular community was suspended on the suspension date or for further information, contact David Stearrett, Mitigation Directorate, Federal Emergency Management Agency, 500 C Street, SW., Washington, DC 20472, (202) 646-2953.

SUPPLEMENTARY INFORMATION: The NFIP enables property owners to purchase flood insurance which is generally not otherwise available. In return, communities agree to adopt and administer local floodplain management aimed at protecting lives and new construction from future flooding. Section 1315 of the National Flood Insurance Act of 1968, as amended, 42 U.S.C. 4022, prohibits flood insurance coverage as authorized under the NFIP, 42 U.S.C. 4001 et seq.; unless an appropriate public body adopts adequate floodplain management measures with effective enforcement measures. The communities listed in this document no longer meet that statutory requirement for compliance with program regulations, 44 CFR part 59. Accordingly, the communities will be suspended on the effective date in the third column. As of that date, flood insurance will no longer be available in the community. However, some of these communities may adopt and submit the required documentation of legally enforceable floodplain management measures after this rule is published but prior to the actual suspension date. These communities will not be suspended and will continue their eligibility for the sale of insurance. A notice withdrawing the suspension of the communities will be published in the Federal Register.

In addition, FEMA has identified the Special Flood Hazard Areas (SFHAs) in these communities by publishing a Flood Insurance Rate Map (FIRM). The date of the FIRM, if one has been published, is indicated in the fourth column of the table. No direct Federal financial assistance (except assistance pursuant to the Robert T. Stafford Disaster Relief and Emergency Assistance Act not in connection with a flood) may legally be provided for construction or acquisition of buildings in identified SFHAs for communities not participating in the NFIP and identified for more than a year, on FEMA's initial flood insurance map of the community as having flood-prone areas (section 202(a) of the Flood Disaster Protection Act of 1973, 42 U.S.C. 4106(a), as amended). This prohibition against certain types of Federal assistance becomes effective for the communities listed on the date shown in the last column. The Administrator finds that notice and public comment under 5 U.S.C. 553(b) are impracticable and unnecessary because communities listed in this final rule have been adequately notified.

Each community receives 6-month, 90-day, and 30-day notification letters addressed to the Chief Executive Officer stating that the community will be suspended unless the required floodplain management measures are met prior to the effective suspension date. Since these notifications were made, this final rule may take effect within less than 30 days.

National Environmental Policy Act. This rule is categorically excluded from the requirements of 44 CFR part 10, Environmental Considerations. No environmental impact assessment has been prepared.

Regulatory Flexibility Act. The Administrator has determined that this rule is exempt from the requirements of the Regulatory Flexibility Act because the National Flood Insurance Act of 1968, as amended, 42 U.S.C. 4022, prohibits flood insurance coverage unless an appropriate public body adopts adequate floodplain management measures with effective enforcement measures. The communities listed no longer comply with the statutory requirements, and after the effective date, flood insurance will no longer be available in the communities unless remedial action takes place.

Regulatory Classification. This final rule is not a significant regulatory action under the criteria of section 3(f) of Executive Order 12866 of September 30, 1993, Regulatory Planning and Review, 58 FR 51735.

Executive Order 13132, Federalism. This rule involves no policies that have federalism implications under Executive Order 13132.

Executive Order 12988, Civil Justice Reform. This rule meets the applicable standards of Executive Order 12988.

Paperwork Reduction Act. This rule does not involve any collection of information for purposes of the Paperwork Reduction Act, 44 U.S.C. 3501 et seq.

List of Subjects in 44 CFR Part 64

Flood insurance, Floodplains.

Accordingly, 44 CFR part 64 is amended as follows:

PART 64—[AMENDED]

1. The authority citation for part 64 continues to read as follows:

Authority: 42 U.S.C. 4001 et seq.; Reorganization Plan No. 3 of 1978, 3 CFR, 1978 Comp.; p. 329; E.O. 12127, 44 FR 19367, 3 CFR, 1979 Comp.; p. 376.

§ 64.6 [Amended]

2. The tables published under the authority of § 64.6 are amended as follows:

State and location | Community No. | Effective date authorization/cancellation of sale of flood insurance in community | Current effective map date | Date certain Federal assistance no longer available in SFHAs
Region IV
Kentucky:
Beaver Dam, City of, Ohio County | 210184 | June 12, 1975, Emerg; September 27, 1985, Reg; June 2, 2011, Susp | June 2, 2011 | June 2, 2011.
Benton, City of, Marshall County | 210163 | September 22, 1972, Emerg; March 15, 1977, Reg; June 2, 2011, Susp | ......do | Do.
Calvert City, City of, Marshall County | 210164 | July 8, 1975, Emerg; August 5, 1985, Reg; June 2, 2011, Susp | ......do | Do.
Carter County, Unincorporated Areas | 210050 | January 20, 1976, Emerg; February 15, 1984, Reg; June 2, 2011, Susp | ......do | Do.
Gratz, City of, Owen County | 210321 | June 18, 1976, Emerg; August 19, 1986, Reg; June 2, 2011, Susp | ......do | Do.
Grayson, City of, Carter County | 210051 | July 10, 1975, Emerg; August 16, 1982, Reg; June 2, 2011, Susp | ......do | Do.
Hardin, City of, Marshall County | 210303 | October 15, 1997, Emerg; July 1, 2001, Reg; June 2, 2011, Susp | ......do | Do.
Hartford, City of, Ohio County | 210357 | September 8, 1982, Emerg; September 4, 1985, Reg; June 2, 2011, Susp | ......do | Do.
Jessamine County, Unincorporated Areas | 210125 | April 16, 1973, Emerg; August 1, 1978, Reg; June 2, 2011, Susp | ......do | Do.
Marshall County, Unincorporated Areas | 210252 | N/A, Emerg; April 1, 1997, Reg; June 2, 2011, Susp | ......do | Do.
Monterey, City of, Owen County | 210295 | April 20, 1976, Emerg; August 5, 1986, Reg; June 2, 2011, Susp | ......do | Do.
Nicholasville, City of, Jessamine County | 210126 | June 11, 1975, Emerg; April 17, 1989, Reg; June 2, 2011, Susp | ......do | Do.
Ohio County, Unincorporated Areas | 210183 | August 3, 1983, Emerg; September 29, 1989, Reg; June 2, 2011, Susp | ......do | Do.
Olive Hill, City of, Carter County | 210052 | July 29, 1975, Emerg; August 16, 1982, Reg; June 2, 2011, Susp | ......do | Do.
Owen County, Unincorporated Areas | 210186 | May 2, 1997, Emerg; July 1, 1999, Reg; June 2, 2011, Susp | ......do | Do.
Wilmore, City of, Jessamine County | 210311 | January 17, 1975, Emerg; November 5, 1986, Reg; June 2, 2011, Susp | ......do | Do.
Mississippi:
Macon, City of, Noxubee County | 280123 | April 29, 1975, Emerg; January 1, 1986, Reg; June 2, 2011, Susp | ......do | Do.
Monticello, Town of, Lawrence County | 280225 | April 27, 1979, Emerg; April 2, 1986, Reg; June 2, 2011, Susp | ......do | Do.
Noxubee County, Unincorporated Areas | 280305 | December 21, 1978, Emerg; July 1, 1987, Reg; June 2, 2011, Susp | ......do | Do.
Silver Creek, Town of, Lawrence County | 280226 | November 3, 2008, Emerg; June 2, 2011, Reg; June 2, 2011, Susp | ......do | Do.
Region V
Illinois:
Adams County, Unincorporated Areas | 170001 | November 27, 1974, Emerg; November 15, 1985, Reg; June 2, 2011, Susp | ......do | Do.
Cleveland, Village of, Henry County | 170748 | April 8, 1977, Emerg; August 1, 1980, Reg; June 2, 2011, Susp | ......do | Do.
Coal Valley, Village of, Henry and Rock Island Counties | 170585 | September 26, 1974, Emerg; December 4, 1979, Reg; June 2, 2011, Susp | ......do | Do.
Colona, City of, Henry County | 170749 | July 7, 1976, Emerg; September 17, 1980, Reg; June 2, 2011, Susp | ......do | Do.
Crawford County, Unincorporated Areas | 170939 | N/A, Emerg; March 14, 1996, Reg; June 2, 2011, Susp | ......do | Do.
Florence, Village of, Pike County | 170552 | May 27, 1976, Emerg; February 18, 1981, Reg; June 2, 2011, Susp | ......do | Do.
Geneseo, City of, Henry County | 170284 | March 31, 1972, Emerg; May 16, 1977, Reg; June 2, 2011, Susp | ......do | Do.
Henry County, Unincorporated Areas | 170739 | February 7, 1974, Emerg; January 17, 1985, Reg; June 2, 2011, Susp | ......do | Do.
Hull, Village of, Pike County | 170553 | April 30, 1974, Emerg; June 11, 1976, Reg; June 2, 2011, Susp | ......do | Do.
Hutsonville, Village of, Crawford County | 170178 | June 17, 1975, Emerg; March 15, 1984, Reg; June 2, 2011, Susp | ......do | Do.
Kewanee, City of, Henry County | 170286 | April 3, 1975, Emerg; March 4, 1986, Reg; June 2, 2011, Susp | ......do | Do.
Nebo, Village of, Pike County | 170554 | August 26, 1976, Emerg; August 1, 1984, Reg; June 2, 2011, Susp | ......do | Do.
New Canton, Town of, Pike County | 170555 | April 24, 1997, Emerg; June 2, 2011, Reg; June 2, 2011, Susp | ......do | Do.
Palestine, Village of, Crawford County | 170179 | November 12, 1975, Emerg; September 4, 1985, Reg; June 2, 2011, Susp | ......do | Do.
Pearl, Village of, Pike County | 170556 | September 1, 1976, Emerg; September 16, 1981, Reg; June 2, 2011, Susp | ......do | Do.
Pike County, Unincorporated Areas | 170551 | May 1, 1974, Emerg; January 3, 1986, Reg; June 2, 2011, Susp | ......do | Do.
Pleasant Hill, Village of, Pike County | 170558 | October 4, 1974, Emerg; October 15, 1985, Reg; June 2, 2011, Susp | ......do | Do.
Quincy, City of, Adams County | 170003 | March 25, 1974, Emerg; October 15, 1981, Reg; June 2, 2011, Susp | ......do | Do.
Robinson, City of, Crawford County | 170180 | July 17, 1975, Emerg; April 6, 1984, Reg; June 2, 2011, Susp | ......do | Do.
Valley City, Village of, Pike County | 170559 | May 14, 1979, Emerg; February 18, 1981, Reg; June 2, 2011, Susp | ......do | Do.
Ohio:
Arcadia, Village of, Hancock County | 390241 | January 5, 1978, Emerg; March 1, 1987, Reg; June 2, 2011, Susp | ......do | Do.
Arlington, Village of, Hancock County | 390242 | February 25, 1976, Emerg; February 2, 1984, Reg; June 2, 2011, Susp | ......do | Do.
Findlay, City of, Hancock County | 390244 | January 15, 1975, Emerg; December 4, 1984, Reg; June 2, 2011, Susp | ......do | Do.
Fostoria, City of, Hancock, Seneca, and Wood Counties | 390245 | April 9, 1975, Emerg; July 1, 1987, Reg; June 2, 2011, Susp | ......do | Do.
Hancock County, Unincorporated Areas | 390767 | May 28, 1991, Emerg; August 5, 1991, Reg; June 2, 2011, Susp | ......do | Do.
Jenera, Village of, Hancock County | 390246 | January 24, 2008, Emerg; May 1, 2008, Reg; June 2, 2011, Susp | ......do | Do.
Mount Blanchard, Village of, Hancock County | 390248 | January 13, 1976, Emerg; February 5, 1986, Reg; June 2, 2011, Susp | ......do | Do.
Region VI
Arkansas:
Booneville, City of, Logan County | 050472 | July 2, 1975, Emerg; June 25, 1976, Reg; June 2, 2011, Susp | ......do | Do.
Caulksville, Town of, Logan County | 050397 | January 13, 1983, Emerg; July 3, 1985, Reg; June 2, 2011, Susp | ......do | Do.
Logan County, Unincorporated Areas | 050447 | March 13, 1981, Emerg; October 18, 1988, Reg; June 2, 2011, Susp | ......do | Do.
Magazine, City of, Logan County | 050344 | June 2, 1976, Emerg; July 13, 1982, Reg; June 2, 2011, Susp | ......do | Do.
Paris, City of, Logan County | 050132 | December 18, 1974, Emerg; July 6, 1982, Reg; June 2, 2011, Susp | ......do | Do.
Subiaco, Town of, Logan County | 050288 | March 23, 1976, Emerg; July 5, 1978, Reg; June 2, 2011, Susp | ......do | Do.
Oklahoma:
Bennington, Town of, Bryan County | 400260 | October 23, 1980, Emerg; August 19, 1985, Reg; June 2, 2011, Susp | ......do | Do.
Bokchito, Town of, Bryan County | 400349 | February 9, 1978, Emerg; October 19, 1982, Reg; June 2, 2011, Susp | ......do | Do.
Bryan County, Unincorporated Areas | 400482 | July 21, 1982, Emerg; September 18, 1991, Reg; June 2, 2011, Susp | ......do | Do.
Caddo, Town of, Bryan County | 400353 | October 26, 1976, Emerg; May 25, 1978, Reg; June 2, 2011, Susp | ......do | Do.
Durant, City of, Bryan County | 400460 | May 20, 1975, Emerg; September 30, 1980, Reg; June 2, 2011, Susp | ......do | Do.
Texas:
Hubbard, City of, Hill County | 480859 | April 3, 1981, Emerg; May 1, 1985, Reg; June 2, 2011, Susp | ......do | Do.
Mertens, Town of, Hill County | 480862 | August 16, 1990, Emerg; March 1, 1991, Reg; June 2, 2011, Susp | ......do | Do.
Region VII
Iowa:
Clayton, City of, Clayton County | 190072 | February 24, 1975, Emerg; March 16, 1989, Reg; June 2, 2011, Susp | ......do | Do.
Clayton County, Unincorporated Areas | 190858 | May 3, 1976, Emerg; May 1, 1990, Reg; June 2, 2011, Susp | ......do | Do.
Elkader, City of, Clayton County | 190073 | October 3, 1974, Emerg; September 29, 1978, Reg; June 2, 2011, Susp | ......do | Do.
Elkport, City of, Clayton County | 190074 | December 24, 1974, Emerg; August 1, 1986, Reg; June 2, 2011, Susp | ......do | Do.
Farmersburg, City of, Clayton County | 190075 | October 6, 1975, Emerg; August 19, 1986, Reg; June 2, 2011, Susp | ......do | Do.
Garber, City of, Clayton County | 190076 | March 7, 1975, Emerg; August 1, 1986, Reg; June 2, 2011, Susp | ......do | Do.
Marquette, City of, Clayton County | 195182 | April 16, 1971, Emerg; January 19, 1972, Reg; June 2, 2011, Susp | ......do | Do.
McGregor, City of, Clayton County | 195183 | April 9, 1971, Emerg; January 19, 1972, Reg; June 2, 2011, Susp | ......do | Do.
Millville, City of, Clayton County | 190081 | July 9, 1975, Emerg; July 2, 1987, Reg; June 2, 2011, Susp | ......do | Do.
Saint Olaf, City of, Clayton County | 190084 | March 10, 1975, Emerg; August 1, 1986, Reg; June 2, 2011, Susp | ......do | Do.
Strawberry Point, City of, Clayton County | 190662 | N/A, Emerg; October 19, 2010, Reg; June 2, 2011, Susp | ......do | Do.
Volga, City of, Clayton County | 190085 | July 23, 1975, Emerg; August 1, 1986, Reg; June 2, 2011, Susp | ......do | Do.
Region IX
California:
Fort Bragg, City of, Mendocino County | 060184 | May 23, 1975, Emerg; December 7, 1982, Reg; June 2, 2011, Susp | ......do | Do.
Ukiah, City of, Mendocino County | 060186 | October 30, 1974, Emerg; July 19, 1982, Reg; June 2, 2011, Susp | ......do | Do.
Willits, City of, Mendocino County | 060187 | July 16, 1975, Emerg; July 19, 1982, Reg; June 2, 2011, Susp | ......do | Do.
Region X
Oregon:
Benton County, Unincorporated Areas | 410008 | April 18, 1974, Emerg; August 5, 1986, Reg; June 2, 2011, Susp | ......do | Do.
Corvallis, City of, Benton County | 410009 | October 24, 1974, Emerg; January 3, 1985, Reg; June 2, 2011, Susp | ......do | Do.
Monroe, City of, Benton County | 410010 | July 8, 1975, Emerg; January 3, 1986, Reg; June 2, 2011, Susp | ......do | Do.
Philomath, City of, Benton County | 410011 | June 6, 1975, Emerg; June 15, 1982, Reg; June 2, 2011, Susp | ......do | Do.
*-do- = Ditto.
Code for reading third column: Emerg.—Emergency; Reg.—Regular; Susp.—Suspension.

Dated: May 11, 2011.
Sandra K. Knight,
Deputy Federal Insurance and Mitigation Administrator, Mitigation.

[FR Doc. 2011-13139 Filed 5-26-11; 8:45 am]

BILLING CODE 9110-12-P